DEPARTMENT OF TRANSPORTATION

Federal Aviation Administration

14 CFR Part 39

[Docket No. FAA-2011-0221; Directorate Identifier 2010-NM-120-AD]

RIN 2120-AA64

Airworthiness Directives; The Boeing Company Model DC-8-11, DC-8-12, DC-8-21, DC-8-31, DC-8-32, DC-8-33, DC-8-41, DC-8-42, and DC-8-43 Airplanes; DC-8-50 Series Airplanes; DC-8F-54 and DC-8F-55 Airplanes; DC-8-60 Series Airplanes; DC-8-60F Series Airplanes; DC-8-70 Series Airplanes; and DC-8-70F Series Airplanes

AGENCY: Federal Aviation Administration (FAA), DOT.

ACTION: Notice of proposed rulemaking (NPRM).

SUMMARY: We propose to adopt a new airworthiness directive (AD) for certain Model DC-8-11, DC-8-12, DC-8-21, DC-8-31, DC-8-32, DC-8-33, DC-8-41, DC-8-42, and DC-8-43 airplanes, DC-8-50 series airplanes, DC-8F-54 and DC-8F-55 airplanes, DC-8-60 series airplanes, DC-8-60F series airplanes, DC-8-70 series airplanes, and DC-8-70F series airplanes. This proposed AD would require repetitive high frequency eddy current or repetitive low frequency eddy current inspections for cracks on the area around certain fasteners of the access opening doubler on the left and right wing center spar lower cap, and repair, if necessary. This proposed AD results from reports that cracks in the center spar lower cap and, in some cases, the web of the spar, have been found at stations Xrs=168.00, Xrs=251.00, and Xrs=358.00. We are proposing this AD to detect and correct cracks in the area around certain fasteners of the access opening doubler on the left and right wing center spar lower cap, which could compromise the structural integrity of the wing structure.

DATES: We must receive comments on this proposed AD by April 29, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Dara Albouyeh, Aerospace Engineer, Airframe Branch, ANM-120L, FAA, Los Angeles Aircraft Certification Office (ACO), 3960 Paramount Boulevard, Lakewood, California 90712-4137; telephone (562) 627-5222; fax (562) 627-5210.

SUPPLEMENTARY INFORMATION:

Comments Invited

We invite you to send any written relevant data, views, or arguments about this proposed AD. Send your comments to an address listed under the ADDRESSES section. Include “Docket No. FAA-2011-0221; Directorate Identifier 2010-NM-120-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received reports that cracks in the center spar lower cap and, in some cases, the web of the spar, have been found at stations Xrs=168.00, Xrs=251.00, and Xrs=358.00. These cracks originate in the most inboard fastener hole of the access opening doublers. A total of 12 cracks have been found in airplanes having accumulated between 26,121 and 50,136 total flight cycles. The cracks appear to be consistent with fatigue cracks. Such cracking in the area around certain fasteners of the access opening doubler on the left and right wing center spar lower cap, if not detected and corrected, could compromise the structural integrity of the wing structure.

Relevant Service Information

We have reviewed Boeing Alert Service Bulletin DC8-57A103, dated May 5, 2010. This service bulletin describes procedures for repetitive high frequency eddy current (HFEC) inspections or low frequency eddy current (LFEC) inspections for cracks on the area around certain fasteners of the left and right wing center spar lower cap at stations Xrs=168.00, Xrs=251.00, and Xrs=358.00, and repair if necessary.

This service bulletin also describes procedures for repetitive (post-repair) inspections for cracking of the repaired area, using the inspection defined in Method 101 of Section 57-10-06, or Method 101 or 104 of Section 57-10-16, of the McDonnell Douglas DC-8 Supplemental Inspection Document (SID), Report L26-011, Volume II, Revision 8, dated January 2005, as applicable.

For airplanes on which no cracking is found, the repetitive interval is either 1,750 flight cycles or 6,000 flight cycles, depending on the inspection type.

For airplanes on which cracking is found, the repetitive interval for non-repaired areas is either 1,750 flight cycles or 6,000 flight cycles, depending on the inspection type.

For airplanes on which cracking is found, the compliance time for the initial post-repair inspection is between 7,600 flight cycles and 43,000 flight cycles after doing the repair, depending on the configuration and inspection type. The repetitive interval is between 1,400 flight cycles and 5,300 flight cycles, depending on the configuration and inspection type.

Other Relevant Rulemaking

This proposed AD will affect the inspections, corrective actions, and reports required by AD 2008-25-05, Amendment 39-15763 (73 FR 78936, December 24, 2008), for Principal Structural Elements (PSE) 57.08.013/-014 and 57.08.035/-036 of the DC-8 SID.

FAA's Determination and Requirements of This Proposed AD

We are proposing this AD because we evaluated all relevant information and determined the unsafe condition described previously is likely to exist or develop in other products of these same type designs.

Proposed AD Requirements

This proposed AD would require accomplishing the actions specified in the service information described previously, except as discussed under “Differences Between the Proposed AD and the Service Information.”

Differences Between the Proposed AD and the Service Information

Boeing Alert Service Bulletin DC8-57A103, dated May 5, 2010, does not specify a corrective action if cracking is found during the inspections of the repaired area. If cracking is found during the inspections of the repaired area, this proposed AD would require repairing those conditions in one of the following ways:

• In accordance with a method that we approve; or

• Using data that meet the certification basis of the airplane, and that have been approved by the Boeing Commercial Airplanes Organization Designation Authorization (ODA) whom we have authorized to make those findings.

Costs of Compliance

We estimate that this proposed AD would affect 41 airplanes of U.S. registry. We also estimate that it would take 12 work-hours per product to comply with this proposed AD. The average labor rate is $85 per work-hour. Based on these figures, we estimate the cost of this proposed AD to the U.S. operators to be $41,820, or $1,020 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2011-0221; Directorate Identifier 2010-NM-120-AD.

Comments Due Date

(a) We must receive comments by April 29, 2011.

Affected ADs

(b) This AD affects certain requirements of AD 2008-25-05, Amendment 39-15763.

Applicability

(c) This AD applies to all The Boeing Company Model DC-8-11, DC-8-12, DC-8-21, DC-8-31, DC-8-32, DC-8-33, DC-8-41, DC-8-42, DC-8-43, DC-8-51, DC-8-52, DC-8-53, DC-8-55, DC-8F-54, DC-8F-55, DC-8-61, DC-8-62, DC-8-63, DC-8-61F, DC-8-62F, DC-8-63F, DC-8-71, DC-8-72, DC-8-73, DC-8-71F, DC-8-72F, and DC-8-73F airplanes, certificated in any category.

Subject

(d) Air Transport Association (ATA) of America Code 57: Wings.

Unsafe Condition

(e) This AD results from reports that cracks in the center spar lower cap and, in some cases, the web of the spar, have been found at stations Xrs=168.00, Xrs=251.00, and Xrs=358.00. The Federal Aviation Administration is issuing this AD to detect and correct cracks in the area around certain fasteners of the access opening doubler on the left and right wing center spar lower cap, which could compromise the structural integrity of the wing structure.

Compliance

(f) You are responsible for having the actions required by this AD performed within the compliance times specified, unless the actions have already been done.

Inspection

(g) Before the accumulation of 20,000 total flight cycles, or within 3,000 flight cycles after the effective date of this AD, whichever occurs later, do a high frequency eddy current (HFEC) or low frequency eddy current (LFEC) inspection for cracks on the area around certain fasteners of the access opening doubler on the left and right wing center spar lower cap, in accordance with the Accomplishment Instructions of Boeing Alert Service Bulletin DC8-57A103, dated May 5, 2010. If no crack is found, repeat the inspection thereafter at the applicable interval specified in paragraph 1.E., “Compliance” of Boeing Alert Service Bulletin DC8-57A103, dated May 5, 2010.

Repair

(h) If any crack is found during any inspection required by paragraph (g) of this AD, do paragraphs (h)(1), (h)(2), and (h)(3) of this AD.

(1) Before further flight, repair the crack in accordance with Boeing Alert Service Bulletin DC8-57A103, dated May 5, 2010.

(2) Within 6,000 flight cycles after doing the most recent HFEC inspection, or within 1,750 flight cycles after doing the most recent LFEC inspection; as applicable; do the inspection specified in paragraph (g) of this AD of the non-repaired area, and repeat the inspection of the non-repaired area thereafter at the applicable time in paragraph 1.E. “Compliance,” of Boeing Alert Service Bulletin DC8-57A103, dated May 5, 2010.

(3) Within the applicable times specified in paragraph 1.E. “Compliance,” of Boeing Alert Service Bulletin DC8-57A103, dated May 5, 2010, do the inspections of the repaired area, using the inspection defined in Method 101 of Section 57-10-06, or Method 101 or 104 of Section 57-10-16, of the McDonnell Douglas DC-8 Supplemental Inspection Document (SID), Report L26-011, Volume II, Revision 8, dated January 2005, as applicable. Repeat the inspection thereafter at the applicable intervals specified in paragraph 1.E., “Compliance,” of Boeing Alert Service Bulletin DC8-57A103, dated May 5, 2010. If any crack is found, before further flight, repair the crack using a method approved in accordance with the procedures specified in paragraph (j) of this AD.

(i) The inspections required by paragraph (h)(3) of this AD constitute compliance with paragraph (j) of AD 2008-25-05, Amendment 39-15763, for the repaired area. All requirements of AD 2008-25-05 that are not specifically referenced in this paragraph remain fully applicable and require compliance.

Alternative Methods of Compliance (AMOCs)

(j)(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) To request a different method of compliance or a different compliance time for this AD, follow the procedures in 14 CFR 39.19. Before using any approved AMOC, notify your appropriate principal inspector, or lacking a principal inspector, the manager of the local flight standards district office/certificate holding district office. The AMOC approval letter must specifically reference this AD.

(3) An AMOC that provides an acceptable level of safety may be used for any repair required by this AD if it is approved by the Boeing Commercial Airplanes Organization Designation Authorization (ODA) that has been authorized by the Manager, Los Angeles ACO to make those findings. For a repair method to be approved, the repair must meet the certification basis of the airplane and 14 CFR 25.571, Amendment 45, and the approval must specifically refer to this AD.

Related Information

(k) For more information about this AD, contact Dara Albouyeh, Aerospace Engineer, Airframe Branch, ANM-120L, FAA, Los Angeles ACO, 3960 Paramount Boulevard, Lakewood, California 90712-4137; telephone (562) 627-5222; fax (562) 627-5210; e-mail: dara.albouyeh@faa.gov.

Issued in Renton, Washington, on March 7, 2011.
Kalene C. Yanamura,
Acting Manager, Transport Airplane Directorate, Aircraft Certification Service.

[FR Doc. 2011-5898 Filed 3-14-11; 8:45 am]

BILLING CODE 4910-13-P